POSTAL REGULATORY COMMISSION

[Docket No. CP2011-49; Order No. 1734]

Negotiated Service Agreement

AGENCY: Postal Regulatory Commission.

ACTION: Notice.

SUMMARY: The Commission is noticing a recent Postal Service filing concerning an amendment to Priority Mail Contract 33. This notice informs the public of the filing, invites public comment, and takes other administrative steps.

DATES: Comments are due: June 6, 2013.

ADDRESSES: Submit comments electronically via the Commission's Filing Online system at http://www.prc.gov. Those who cannot submit comments electronically should contact the person identified in the FOR FURTHER INFORMATION CONTACT section by telephone for advice on filing alternatives.

FOR FURTHER INFORMATION CONTACT: Stephen L. Sharfman, General Counsel, at 202-789-6820.

SUPPLEMENTARY INFORMATION:

Table of Contents

I. Introduction

II. Notice of Filing

III. Ordering Paragraphs

I. Introduction

On May 24, 2013, the Postal Service filed notice that it has agreed to an amendment to the existing Priority Mail Contract 33.¹ The Notice included a redacted version of the amendment to Priority Mail Contract 33 (Amendment). On May 28, 2013, the Postal Service filed the certified statement and supporting financial information required by 39 CFR 3015.5(c) relating to the change in prices.² For purposes of 39 CFR 3015.5(a), the Commission considers May 28, 2013 (the day the Postal Service submitted all information required under that section), to be the date of filing of the notice. In the future, the Postal Service should file all of its supporting information contemporaneously with its Notice.

¹ Notice of United States Postal Service of Change in Prices Pursuant to Amendment to Priority Mail Contract 33, May 24, 2013 (Notice).

² Notice of the United States Postal Service of Filing Supplemental Materials for Amendment to Priority Mail Contract 33, May 28, 2013 (Supplement).

The Amendment changes the prices that apply to packages sent under Priority Mail Contract 33 and provides for an annual adjustment of the new prices. Notice, Attachment A. It is scheduled to take effect on the day that the Commission completes its review of the Amendment. Notice at 1.

The Postal Service's Notice contained the Amendment as Attachment A and sought to incorporate by reference the original application for non-public treatment in this docket. Id. The Supplement, filed several days later, contained the supporting financial documentation and certified statement required by 39 CFR 3015.5. The certified statement was designated as Attachment B. Supplement, Attachment B.

In the certified statement required under 39 CFR 3015.5, Steven Phelps, Manager, Regulatory Reporting and Cost Analysis, Finance Department, states that the amended prices and terms are consistent with Governors Decision No. 09-6 and 39 U.S.C. 3633(a) Id. He concludes that the contract should cover its attributable costs and will not result in the subsidization of competitive products by market dominant products. Id.

II. Notice of Filing

Interested persons may submit comments on whether the changes presented in the Postal Service's Notice and Supplement are consistent with the policies of 39 U.S.C. 3632, 3633, or 3642, 39 CFR part 3015, and 39 CFR 3020 subpart B. Comments are due no later than June 6, 2013. The public portions of these filings can be accessed via the Commission's Web site (http://www.prc.gov). Information on how to obtain access to non-public material appears at 39 CFR 3007.40.

The Commission appoints Kenneth R. Moeller to represent the interest of the general public (Public Representative) in this case.

III. Ordering Paragraphs

It is ordered:

1. The Commission reopens Docket No. CP2011-49 for consideration of matters raised by the Postal Service's Notice.

2. Pursuant to 39 U.S.C. 505, the Commission designates Kenneth R. Moeller to serve as an officer of the Commission (Public Representative) to represent the interests of the general public in this proceeding.

3. Comments are due no later than June 6, 2013.

4. The Secretary shall arrange for publication of this order in the Federal Register.

By the Commission.
Shoshana M. Grove,
Secretary.

[FR Doc. 2013-13213 Filed 6-4-13; 8:45 am]

BILLING CODE 7710-FW-P